DEPARTMENT OF THE TREASURY

Submission for OMB Review; Comment Request

August 28, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before October 6, 2000 to be assured of consideration.

Internal Revenue Service (IRS)

OMB Number: 1545-0098.

Form Number: IRS Form 1045.

Type of Review: Extension.

Title: Application for Tentative Refund.

Description: Form 1045 is used by individuals, estates, and trusts to apply for a quick refund of taxes due to carryback of a net operating loss, unused general business credit, or claim of right adjustment under section 1351(b). The information obtained is used to determine the validity of the application.

Respondents: Individuals or households, business or other for-profit, farms.

Estimated Number of Respondents/Recordkeepers: 65,220.

Estimated Burden Hours Per Respondent/Recordkeeper:

Recordkeeping | 4 hr., 9 min.
Learning about the law or the form | 46 min.
Preparing the form | 6 hr., 44 min.
Copying, assembling, and sending the form to the IRS | 1 hr., 3 min.

Frequency of response: On occasion.

Estimated Total Reporting/Recordkeeping Burden: 828,947 hours.

OMB Number: 1545-0123.

Form Number: IRS Form 1120, Schedule D (Form 1120), Schedule H (Form 1120), Schedule N (Form 1120) and Schedule PH (Form 1120).

Type of Review: Revision.

Title: U.S. Corporation Income Tax Return (Form 1120); Capital Gains and Losses (Schedule D); Section 280H Limitations for a Personal Service Corporation (PSC) (Schedule H); Foreign Operations of U.S. Corporations (Schedule H); and U.S. Personal Holding Company (PHC) Tax (Schedule PH).

Description: Form 1120 is used by corporations to compute their taxable income and tax liability. Schedule D (Form 1120) is used by corporations to report gains and losses from the sale of capital assets. Schedule PH (Form 1120) is used by personal holding companies to figure the personal holding company tax under section 541. Schedule H (Form 1120) is used by personal service corporations to determine if they have met the minimum distribution requirements of section 280H. Schedule N (Form 1120) is used by corporations that have assets in or business operations in a foreign country or a U.S. possession. The IRS uses these forms to determine whether corporations have correctly computed their tax liability.

Respondents: Business or other for-profit, farms.

Estimated Number of Respondents/Recordkeepers: 2,462,931.

Estimated Burden Hours Per Respondent/Recordkeeper:

Form/Schedule | Recordkeeping | Learning about the law or the form | Preparing the form | Copying, assembling, and sending the form to the IRS
1120 | 70 hr., 47 min. | 41 hr., 50 min. | 72 hr., 45 min. | 8 hr., 2 min.
1120-A | 44 hr., 14 min. | 23 hr., 33 min. | 41 hr., 7 min. | 4 hr., 34 min.
Sch. D (1120) | 7 hr., 10 min. | 4 hr., 16 min. | 6 hr., 16 min. | 32 min.
Sch. H (1120) | 5 hr., 58 min. | 35 min. | 43 min. | 0 min.
Sch. N (1120) | 2 hr., 52 min. | 45 min. | 1 hr., 46 min. | 16 min.
Sch. PH (1120) | 15 hr., 18 min. | 6 hr., 12 min. | 8 hr., 35 min. | 32 min.

Frequency of response: Annually.

Estimated Total Reporting/Recordkeeping Burden: 484,502,671 hours.

OMB Number: 1545-0935.

Form Number: IRS Form 1120-FSC and Schedule P (1120-FSC).

Type of Review: Revision.

Title: U.S. Income Tax Return of a Foreign Sales Corporation (Form 1120-FSC); and Transfer Price or Commission (Schedule P).

Description: Form 1120-FSC is filed by foreign sales corporations that have elected to be FSCs or small FSCs. The FSC uses Form 1120-FSC to report income and expenses and to figure its tax liability. IRS uses Form 1120-FSC and Schedule P (Form 1120-FSC) to determine whether the FSC has correctly reported its income and expenses and figured its tax liability correctly.

Respondents: Business or other for-profit.

Estimated Number of Respondents/Recordkeepers: 5,000.

Estimated Burden Hours Per Respondent/Recordkeeper:

| 1120-FSC | Schedule P (1120-FSC)
Recordkeeping | 93 hr., 59 min. | 9 hr., 48 min.
Learning about the law or the form | 18 hr., 30 min. | 1 hr., 29 min.
Preparing and sending the form to the IRS | 36 hr., 24 min. | 1 hr., 43 min.

Frequency of response: Annually.

Estimated Total Reporting/Recordkeeping Burden: 1,069,750 hours.

OMB Number: 1545-1561.

Form Number: IRS Form 8853.

Type of Review: Revision.

Title: Medical Savings Accounts and Long-Term Care Insurance Contracts.

Description: This form is used by individuals to report general information about their medical savings accounts (MSAs), to figure their MSA deductions, and to figure their taxable distributions from MSAs. The form is also used to report taxable payments from long-term care (LTC) contracts.

Respondents: Individuals or households.

Estimated Number of Respondents/Recordkeepers: 36,000.

Estimated Burden Hours Per Respondent/Recordkeeper:

Recordkeeping—1 hr., 32 min.

Learning about the law or the form—34 min.

Preparing the form—1 hr., 37 min.

Copying, assembling, and sending the form to the IRS—20 min.

Frequency of response: Annually

Estimated Total Reporting/Recordkeeping Burden: 61,995 hours.

Clearance Officer: Garrick Shear, Internal Revenue Service, Room 5244, 1111 Constitution Avenue, NW, Washington, DC 20224.

OMB Reviewer: Alexander T. Hunt (202) 395-7860, Office of Management and Budget, Room 10202, New Executive Office Building, Washington, DC 20503.

Lois K. Holland,
Departmental Reports Management Officer.

[FR Doc. 00-22705 Filed 9-5-00; 8:45 am]

BILLING CODE 4830-01-P